INTERNATIONAL TRADE COMMISSION

[USITC SE-09-003]

Government in the Sunshine Act Meeting Notice

Agency Holding the Meeting: United States International Trade Commission.

Time and Date: February 5, 2009 at 11 a.m.

Place: Room 101, 500 E Street, SW., Washington, DC 20436, Telephone: (202) 205-2000.

Status: Open to the public.

Matters To Be Considered:

1. Agendas for future meetings: None.

2. Minutes.

3. Ratification List.

4. Inv. No. 731-TA-1143 (Final) (Small Diameter Graphite Electrodes from China)—briefing and vote. (The Commission is currently scheduled to transmit its determination and Commissioners' opinions to the Secretary of Commerce on or before February 18, 2009.)

5. Outstanding action jackets: None.

In accordance with Commission policy, subject matter listed above, not disposed of at the scheduled meeting, may be carried over to the agenda of the following meeting.

Issued: January 26, 2009.
By order of the Commission.
William R. Bishop,
Hearings and Meetings Coordinator.

[FR Doc. E9-1944 Filed 1-28-09; 8:45 am]

BILLING CODE 7020-02-P